DEPARTMENT OF DEFENSE

Office of the Secretary

[Docket ID: DoD-2013-OS-0110]

Privacy Act of 1974; System of Records

AGENCY: Defense Finance and Accounting Service, DoD.

ACTION: Notice to amend a System of Records.

SUMMARY: The Defense Finance and Accounting Service is amending a system of records notice in its existing inventory of record systems subject to the Privacy Act of 1974 (5 U.S.C. 552a), as amended.

DATES: This proposed action will be effective on June 28, 2013 unless comments are received which result in a contrary determination. Comments will be accepted on or before June 27, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Gregory Outlaw, (317)510-4591.

SUPPLEMENTARY INFORMATION: The Defense Finance and Accounting Service systems of records notices subject to the Privacy Act of 1974 (5 U.S.C. 552a), as amended, have been published in the Federal Register and are available from the address in FOR FURTHER INFORMATION CONTACT. The proposed amendment is not within the purview of subsection (r) of the Privacy Act of 1974 (5 U.S.C. 552a), as amended, which requires the submission of a new or altered system report.

Dated: May 22, 2013.
Aaron Siegel,
Alternate OSD Federal Register Liaison Officer, Department of Defense.

T7901b

System name:

Consolidated Returned Check System (August 13, 2007, 72 FR 45230).

Changes:

* * * * *

System Name:

Delete entry and replace with “Consolidated Returned Items Stop Payment System (CRISPS).”

System Location:

Delete entry and replace with “Defense Information Systems Agency, Defense Enterprise Computing Center—Oklahoma City, 8705 Industrial Blvd., Bldg 3900, Tinker AFB, Oklahoma City, OK 73145-3064.

Defense Finance and Accounting Service—Indianapolis, 8899 East 56th Street, Indianapolis, IN 46249-2700.”

* * * * *

Notification procedure:

Delete entry and replace with “Individuals seeking to determine whether information about themselves is contained in this record system should address written inquiries to the Defense Finance and Accounting Service, Freedom of Information/Privacy Act Program Manager, Corporate Communications, DFAS-ZCF/IN, 8899 E. 56th Street, Indianapolis, IN 46249-0150.

Requests should contain individual's full name, SSN for verification, current address for reply, and provide a reasonable description of what they are seeking.”

Record access procedures:

Delete entry and replace with “Individuals seeking access to information about themselves contained in this record system should address written inquiries to Defense Finance and Accounting Service, Freedom of Information/Privacy Act Program Manager, Corporate Communications, DFAS-ZCF/IN, 8899 E. 56th Street, Indianapolis, IN 46249-0150.

Request should contain individual's full name, SSN for verification, current address for reply, and telephone number.”

Contesting record procedures:

Delete entry and replace with “The Defense Finance and Accounting Service (DFAS) rules for accessing records, for contesting contents and appealing initial agency determinations are published in Defense Finance and Accounting Service Regulation 5400.11-R, 32 CFR 324; or may be obtained from the Defense Finance and Accounting Service, Freedom of Information/Privacy Act Program Manager, Corporate Communications, DFAS-ZCF/IN, 8899 E. 56th Street, Indianapolis, IN 46249-0150.”

* * * * *

[FR Doc. 2013-12572 Filed 5-24-13; 8:45 am]

BILLING CODE 5001-06-P